DEPARTMENT OF TRANSPORTATION

Federal Aviation Administration

14 CFR Part 39

[Docket No. FAA-2017-1010; Product Identifier 2016-SW-089-AD; Amendment 39-19191; AD 2018-03-18]

RIN 2120-AA64

Airworthiness Directives; Agusta S.p.A. Helicopters

AGENCY: Federal Aviation Administration (FAA), DOT.

ACTION: Final rule.

SUMMARY: We are adopting a new airworthiness directive (AD) for Agusta S.p.A. (Agusta) Model AW189 helicopters. This AD requires inspecting and altering the emergency flotation system (EFS). This AD is prompted by a report of punctured EFS kits. The actions of this AD are intended to prevent an unsafe condition on these helicopters.

DATES: This AD is effective April 16, 2018.

ADDRESSES: For service information identified in this final rule, contact Leonardo S.p.A. Helicopters, Matteo Ragazzi, Head of Airworthiness, Viale G.Agusta 520, 21017 C.Costa di Samarate (Va) Italy; telephone +39-0331-711756; fax +39-0331-229046; or at http://www.leonardocompany.com/-/bulletins. You may review the referenced service information at the FAA, Office of the Regional Counsel, Southwest Region, 10101 Hillwood Pkwy., Room 6N-321, Fort Worth, TX 76177.

Examining the AD Docket

You may examine the AD docket on the internet at http://www.regulations.gov by searching for and locating Docket No. FAA-2017-1010; or in person at Docket Operations between 9 a.m. and 5 p.m., Monday through Friday, except Federal holidays. The AD docket contains this AD, the European Aviation Safety Agency (EASA) AD, the economic evaluation, any comments received, and other information. The street address for Docket Operations (phone: 800-647-5527) is U.S. Department of Transportation, Docket Operations, M-30, West Building Ground Floor, Room W12-140, 1200 New Jersey Avenue SE, Washington, DC 20590.

FOR FURTHER INFORMATION CONTACT: Martin R. Crane, Aviation Safety Engineer, Regulations and Policy Section, Rotorcraft Standards Branch, FAA, 10101 Hillwood Pkwy., Fort Worth, TX 76177; telephone (817) 222-5110; email martin.r.crane@faa.gov.

SUPPLEMENTARY INFORMATION:

Discussion

On November 2, 2017, at 82 FR 50849, the Federal Register published our notice of proposed rulemaking (NPRM), which proposed to amend 14 CFR part 39 by adding an AD that would apply to Agusta Model AW189 helicopters with certain part-numbered and serial-numbered EFS float assemblies installed. The NPRM proposed to require inspecting each float bag for punctures, replacing the pressure relief/topping (PRT) valve O-ring part number (P/N) P-G10025 with a PRT valve gasket P/N 316683A, and replacing the inflate/deflate protection P/N 304694A with inflate/deflate protection P/N 304694B. The NPRM also proposed to require repairing the float bag if there are any cuts, tears, punctures, or abrasion on a float bag. The proposed requirements were intended to prevent a punctured EFS float bag, which could result in loss of buoyancy of an EFS float bag while being used in an emergency water ditching and subsequent injury to helicopter occupants.

The NPRM was prompted by AD No. 2016-0263-E, dated December 22, 2016 (AD 2016-0263-E), issued by EASA, which is the Technical Agent for the Member States of the European Union, to correct an unsafe condition for Leonardo S.p.A. Helicopters (previously Agusta) Model AW189 helicopters. EASA advises that during the first scheduled maintenance of an EFS kit, float bags were found punctured due to protruding parts of the pressure relief/topping valves that were not adequately protected. EASA further states that this condition could result in a partial loss of buoyancy of the EFS float bags, possibly resulting in injury to the helicopter's occupants in a ditching event. To prevent this unsafe condition, EASA AD 2016-0263-E requires a one-time inspection of the EFS, repair of any discrepancies found, replacing the pressure relief/topping valve O-ring with a gasket, and replacing the inflate/deflate protection with a new design inflate/deflate protection.

The FAA is in the process of updating Agusta's name change to Leonardo Helicopters on its type certificate. Because this name change is not yet effective, this AD specifies Agusta.

Comments

We gave the public the opportunity to participate in developing this AD, but we did not receive any comments on the NPRM.

FAA's Determination

These helicopters have been approved by the aviation authority of Italy and are approved for operation in the United States. Pursuant to our bilateral agreement with Italy, EASA, its technical representative, has notified us of the unsafe condition described in the EASA AD. We are issuing this AD because we evaluated all information provided by EASA and determined the unsafe condition exists and is likely to exist or develop on other helicopters of the same type design and that air safety and the public interest require adopting the AD requirements as proposed.

Differences Between This AD and the EASA AD

The EASA AD requires compliance within 15 hours time-in-service (TIS) or 10 days for helicopters flying overwater above sea state 4 or within 120 hours or 60 days for helicopters operating overwater up to sea state 4. This AD requires compliance within 120 hours TIS regardless of sea state conditions.

Related Service Information

We reviewed Leonardo Helicopters Bollettino Tecnico No. 189-135, dated December 20, 2016 (BT 189-135), and Aero Sekur Service Bulletin No. SB-189-25-003, dated November 30, 2016 (SB-189-25-003), which is attached to BT 189-135 as Annex A. BT 189-135 specifies following the procedures in SB-189-25-003 to inspect and modify certain EFS kits installed on Model AW189 helicopters.

Costs of Compliance

We estimate that this AD affects two helicopters of U.S. Registry. We estimate that operators will incur the following costs in order to comply with this AD. Labor costs are estimated at $85 per work-hour. Inspecting each float bag, replacing the PRT valve gasket, and replacing the inflate/deflate protection require about 40 work-hours, and required parts cost about $500, for a cost per helicopter of $3,900 and a cost of $7,800 for the U.S. fleet. If required, repairing a float bag will require about 2 work-hours, and required parts cost about $90, for a cost per float bag of $260.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on helicopters identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979);

(3) Will not affect intrastate aviation in Alaska to the extent that it justifies making a regulatory distinction; and

(4) Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2018-03-18 Agusta S.p.A.: Amendment 39-19191; Docket No. FAA-2017-1010; Product Identifier 2016-SW-089-AD.

(a) Applicability

This AD applies to Agusta S.p.A. (Agusta) Model AW189 helicopters, certificated in any category, with an emergency float system (EFS) float assembly part number (P/N) 8G9560V00131, serial number (S/N) 066 or lower; P/N 8G9560V00231, S/N 068 or lower; P/N 8G9560V00331, S/N 068 or lower; or P/N 8G9560V00431, S/N 067 or lower, installed.

(b) Unsafe Condition

This AD defines the unsafe condition as a punctured EFS float bag. This condition could result in loss of buoyancy of an EFS float bag being used in an emergency water ditching and subsequent injury to helicopter occupants.

(c) Effective Date

This AD becomes effective April 16, 2018.

(d) Compliance

You are responsible for performing each action required by this AD within the specified compliance time unless it has already been accomplished prior to that time.

(e) Required Actions

(1) Within 120 hours time-in-service:

(i) Unfold and inspect each float bag assembly for any cuts, tears, punctures, or abrasion. If there is a cut, tear, puncture, or any abrasion, before further flight, repair the float bag assembly.

(ii) Replace each O-ring P/N S-B10104 with a pressure relief/topping (PRT) valve gasket P/N 316683A.

(iii) Install each PRT valve P/N P-G10025 and apply a torque of 4.5 to 5.5 Nm (39.8 to 48.6 inch-pounds).

(iv) Replace each inflate/deflate protection P/N 304694A with a PRT valve protection P/N 304694B.

(v) Install a piece of tape approximately 220 millimeters long over each PRT valve protection P/N 304694B.

(2) After the effective date of this AD, do not install an EFS float assembly P/N 8G9560V00131, S/N 066 or lower; P/N 8G9560V00231, S/N 068 or lower; P/N 8G9560V00331, S/N 068 or lower; or P/N 8G9560V00431, S/N 067 or lower on any helicopter unless you have complied with the actions in paragraph (e)(1) of this AD.

(f) Alternative Methods of Compliance (AMOCs)

(1) The Manager, Safety Management Section, FAA, may approve AMOCs for this AD. Send your proposal to: Martin R. Crane, Aviation Safety Engineer, Regulations and Policy Section, Rotorcraft Standards Branch, FAA, 10101 Hillwood Pkwy., Fort Worth, TX 76177; telephone (817) 222-5110; email 9-ASW-FTW-AMOC-Requests@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(g) Additional Information

(1) Leonardo Helicopters Bollettino Tecnico No. 189-135, dated December 20, 2016, and Aero Sekur Service Bulletin No. SB-189-25-003, dated November 30, 2016, which are not incorporated by reference, contain additional information about the subject of this AD. For service information identified in this AD, contact Leonardo S.p.A. Helicopters, Matteo Ragazzi, Head of Airworthiness, Viale G.Agusta 520, 21017 C.Costa di Samarate (Va) Italy; telephone +39-0331-711756; fax +39-0331-229046; or at http://www.leonardocompany.com/-/bulletins. You may review the referenced service information at the FAA, Office of the Regional Counsel, Southwest Region, 10101 Hillwood Pkwy., Room 6N-321, Fort Worth, TX 76177.

(2) The subject of this AD is addressed in European Aviation Safety Agency (EASA) AD No. 2016-0263-E, dated December 22, 2016. You may view the EASA AD on the internet at http://www.regulations.gov in Docket No. FAA-2017-1010.

(h) Subject

Joint Aircraft Service Component (JASC) Code: 3212 Emergency Flotation Section.

Issued in Fort Worth, Texas, on March 2, 2018.
Scott A. Horn,
Deputy Director for Regulatory Operations, Compliance & Airworthiness Division, Aircraft Certification Service.

[FR Doc. 2018-04861 Filed 3-9-18; 8:45 am]

BILLING CODE 4910-13-P